DEPARTMENT OF HEALTH AND HUMAN SERVICES

Administration for Children and Families

Proposed Information Collection Activity; Head Start Program Performance Standards (0970-0148)

AGENCY: Office of Head Start, Administration for Children and Families, HHS.

ACTION: Request for public comment.

SUMMARY: The Office Head Start (OHS), Administration for Children and Families (ACF), U.S. Department of Health and Human Services (HHS), is requesting a 3-year extension of the information collection requirements under the Head Start Program Performance Standards (OMB #0970-0148). There are no changes to the information collection.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Section 641A of the Head Start Act, 42 U.S.C. 9836A, directs HHS to develop “scientifically based and developmentally appropriate education performance standards related to school readiness” and “ensure that any such revisions in the standards do not result in the elimination of or any reduction in quality, scope, or types of health, educational, parental involvement, nutritional, social, or other services.” The Office of Head Start (OHS) announced in the Federal Register in 2016 the first comprehensive revision of the Head Start Program Performance Standards (HSPPS) since their original release in 1975. This information collection was approved alongside the final rule for the HSPPS.

This information collection is entirely record keeping and does not contain any standardized instruments to provide flexibility for local programs. These records are intended to act as a tool for grantees and delegate agencies to be used in their day-to-day operations. For example, this includes the requirement that programs maintain a waiting list of eligible families. There are no changes to the record keeping requirements.

Respondents: Head Start Grantees. Depending on the standard, the calculated burden hours is based on the individual enrollee (1,054,720), family (956,120), program (3,020), or staff (265,030). In a few cases, only a proportion of one of these may apply.

Annual Burden Estimates
Instrument | Total number of respondents | Total number of responses per respondent | Average burden hours per response | Total burden hours | Annual burden hours
1301.6(a) | 3,020 | 1 | 0.70 | 2,114 | 2,114
1302.12(k) | 1,054,720 | 1 | .166 | 175,084 | 175,084
1302.14(c) | 3,020 | 1 | 2.00 | 6,040 | 6,040
1302.16(b) | 3,020 | 1 | 5.00 | 15,100 | 15,100
1302.33(a)-(b) | 1,054,720 | 1 | 1.00 | 1,054,720 | 1,054,720
1302.33(c)(2) | 294,632 | 1 | 2.00 | 589,264 | 589,264
1302.42(a)-(b) | 1,054,720 | 1 | 0.66 | 696,115 | 696,115
1302.42(e) | 3,020 | 1 | 0.50 | 1,510 | 1,510
1302.47(b)(7)(iv) | 3,020 | 1 | 0.50 | 1,510 | 1,510
1302.53(b)-(d) | 3,020 | 1 | 0.166 | 501 | 501
1302.90(a) | 3,020 | 1 | 0.50 | 1,510 | 1,510
1302.90(b)(1)(i)-(iv),(b)(4) | 79,509 | 1 | 0.33 | 26,238 | 26,238
1302.93(a) | 26,503 | 1 | 0.25 | 6,626 | 6,626
1302.94(a) | 3,020 | 1 | 0.166 | 501 | 501
1302.101(a)(4), 1302.102(b)-(c) | 3,020 | 1 | 79.00 | 238,580 | 238,580
1302.102(d)(3) | 110 | 1 | 10.00 | 1,100 | 1,100
1303.12 | 3,020 | 1 | 0.166 | 501 | 501
1303.22-24 | 956,120 | 1 | 0.33 | 315,520 | 315,520
1303.42-53 | 260 | 1 | 40.00 | 10,400 | 10,400
1303.70(c) | 200 | 1 | 1.00 | 200 | 200
1303.72(a)(3) | 3,020 | 1 | 2.00 | 6,040 | 6,040
1304.13 | 75 | 1 | 60.00 | 4,500 | 4,500
1304.15(a) | 400 | 1 | 0.25 | 100 | 100

Estimated Total Annual Burden Hours: 3,153,774.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 42 U.S.C. 9836A)

John M. Sweet Jr.,
ACF/OPRE Certifying Officer.

[FR Doc. 2021-06639 Filed 3-30-21; 8:45 am]

BILLING CODE 4184-40-P